DEPARTMENT OF HOMELAND SECURITY

Coast Guard

33 CFR Part 165

[Docket No. USCG-2024-0019]

Safety Zone; Riverwalk Marketplace/Lundi Gras Fireworks Display, New Orleans, LA

AGENCY: Coast Guard, DHS.

ACTION: Notification of enforcement of regulation.

SUMMARY: The Coast Guard will enforce a temporary safety zone for the Riverwalk Marketplace/Lundi Gras fireworks display on February 12, 2024, to provide for the safety of life on navigable waterways during this event. Our regulation for annual fireworks displays and other events in the Eighth Coast Guard District requiring safety zones identifies the regulated area for this event on the navigable waters of the Lower Mississippi River between Mile Marker (MM) 93 and MM 96, New Orleans, LA. During the enforcement period, entry into this zone is prohibited unless authorized by the Captain of the Port or a designated representative. All persons and vessels shall comply with the instructions of the Captain of the Port or designated representative. Designated representatives include commissioned, warrant, and petty officers of the U.S. Coast Guard.

DATES: The regulation in 33 Code of Federal Regulations, 33 CFR 165.801, table 5, line 1, will be enforced from 6 p.m. through 7 p.m. on February 12, 2024.

FOR FURTHER INFORMATION CONTACT: If you have questions about this notification of enforcement, call or email Lieutenant Commander William Stewart, Sector New Orleans, U.S. Coast Guard; telephone 504-365-2246, email William.A.Stewart@uscg.mil.

SUPPLEMENTARY INFORMATION: The Coast Guard will enforce a temporary safety zone in 33 CFR 165.801, table 5, line 1, for the Riverwalk Marketplace/Lundi Gras fireworks display event from 6 p.m. through 7 p.m. on February 12, 2024. This action is being taken to provide for the safety of life on navigable waterways during this event. Our regulation for annual fireworks displays and other events in the Eighth Coast Guard District requiring safety zones, § 165.801, identifies the regulated area for the Riverwalk Marketplace/Lundi Gras fireworks display on the navigable waters of the Lower Mississippi River between Mile Marker (MM) 93 and MM 96, New Orleans, LA. During the enforcement period, as reflected in § 165.801(a) through (c), entry into this zone is prohibited unless authorized by the Captain of the Port or a designated representative. All persons and vessels shall comply with the instructions of the Captain of the Port or designated representative. Designated representatives include commissioned, warrant, and petty officers of the U.S. Coast Guard.

In addition to this notification of enforcement in the Federal Register, the Coast Guard plans to provide notification of this enforcement period via Marine Safety Information Bulletin and Broadcast Notice to Mariners.

Dated: January 18, 2024.
K.K. Denning,
Captain, U.S. Coast Guard, Captain of the Port Sector New Orleans.

[FR Doc. 2024-01418 Filed 1-24-24; 8:45 am]

BILLING CODE 9110-04-P